DEPARTMENT OF ENERGY

Federal Energy Regulatory Commission

[Project No. 14202-000]

FFP Project 70, LLC; Notice of Preliminary Permit Application Accepted for Filing and Soliciting Comments, Motions To Intervene, and Competing Applications

On May 13, 2011, Free Flow Power Project 70, LLC filed an application for a preliminary permit, pursuant to section 4(f) of the Federal Power Act (FPA), proposing to study the feasibility of the Mississippi Lock and Dam #19 Water Power Project (Mississippi Lock and Dam #19 Project or project) to be located at the abandoned lock and dry dock area of the Army Corp of Engineer's (Corps) Mississippi Lock and Dam #19 on the Mississippi River, near Keokuk, Lee County, Iowa and Hancock County, Illinois. The sole purpose of a preliminary permit, if issued, is to grant the permit holder priority to file a license application during the permit term. A preliminary permit does not authorize the permit holder to perform any land-disturbing activities or otherwise enter upon lands or waters owned by others without the owners' express permission.

The existing dam is composed of four sections: the dam, an existing hydro powerhouse, an abandoned navigational lock at which the project is proposed, and an operational navigational lock. The dam and powerhouse are owned and operated by Ameren UE, and the two lock structures are owned and operated by the Corps.

The proposed project would consist of the following: (1) A 370-foot-wide, 660-foot-long new approach channel; (2) a 500-foot-long new guide wall to separate barge traffic going into the existing operational lock and direct water flow into the powerhouse; (3) an undetermined length of new retaining wall constructed along the eastern edge of the approach channel; (4) a 200-foot-wide, 250-foot-long new reinforced concrete powerhouse containing three new turbine-generators, each rated at 17 megawatts; (5) a 520-foot-wide, 1,100 foot-long new tailrace channel; (6) a discharge retaining wall of undetermined length constructed along the existing operational lock to protect the lock foundation against scour and undermining; (7) a 60-foot-wide, 75-foot-long new substation containing a step-up transformer and high-side and low-side disconnects; (8) a 900-foot-long, 161-kilovolt (kV) transmission line connecting the substation to Ameren UE's existing infrastructure; and (9) appurtenant facilities. The estimated annual generation of the Mississippi Lock and Dam #19 Water Power Project would be 200 gigawatt-hours.

Applicant Contact: Ramya Swaminathan, Free Flow Power Corporation, 239 Causeway Street, Suite 300, Boston, MA 02114; phone: (978) 283-2822.

FERC Contact: Sergiu Serban; phone: (202) 502-6211.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-14202-000) in the docket number field to access the document. For assistance, contact FERC Online Support.

Dated: July 29, 2011.
Nathaniel J. Davis, Sr.,
Deputy Secretary.

[FR Doc. 2011-20042 Filed 8-8-11; 8:45 am]

BILLING CODE 6717-01-P